DEPARTMENT OF COMMERCE

National Oceanic and Atmospheric Administration

[I.D. 101905A]

Endangered Species; File No. 1518

AGENCY: National Marine Fisheries Service (NMFS), National Oceanic and Atmospheric Administration (NOAA), Commerce.

ACTION: Notice; receipt of application for modification of a scientific research permit.

SUMMARY: Notice is hereby given that Carlos Diez, Departamento de Recursos Naturales y Abmientales de Puerto Rico, P.O. Box 9066600, San Juan, Puerto Rico 00906-6600, has requested a modification to scientific research Permit No. 1518.

DATES: Written, telefaxed, or e-mail comments must be received on or before November 28, 2005.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309;

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1518.

FOR FURTHER INFORMATION CONTACT: Patrick Opay or Kate Swails, (301)713-2289.

SUPPLEMENTARY INFORMATION: The subject modification to Permit No. 1518, issued on August 15, 2005 (70 FR 47813), is requested under the authority of the Endangered Species Act of 1973, as amended (16 U.S.C. 1531 et seq.) and the regulations governing the taking, importing, and exporting of endangered and threatened species (50 CFR 222-226).

Permit No. 1518 currently authorizes the permit holder to study green and hawksbill sea turtles. The purpose of the research is to identify marine habitat, determine distribution and abundance, determine sex ratios, evaluate the extent of ingestion of marine debris, determine growth rates and sexual maturity, and quantify threats. Mr. Diez will annually capture up to 320 hawksbill and 250 green sea turtles by hand or entanglement net. All turtles will be measured, weighed, tagged, and blood sampled. A subset of animals will be lavaged and have transmitters attached to them. One leatherback sea turtle could be incidentally captured during the course of the studies but would be released alive. The permit is issued for 5 years. The permit holder requests a modification to the permit that would allow skin biopsy of 190 green and hawksbill sea turtles. A subset of 10 green turtles would undergo fibropapillomatosis tumor removal surgery and subsequent rehabilitation.

In the case that a turtle has evidence of severe internal tumors, the turtle would be euthanized. The applicant does not expect that more than 2 turtles would require euthanasia. The goal of the additional research would be to create baseline parameters of health assessments, determine groups' heterogenity and dispersal, and provide insight into the pathogenesis of the disease in the wild through the use of long-term capture and release surveys.

Dated: October 20, 2005.
Stephen L. Leathery,
Chief, Permits, Conservation and Education Division, Office of Protected Resources, National Marine Fisheries Service.

[FR Doc. 05-21487 Filed 10-26-05; 8:45 am]

BILLING CODE 3510-22-S